FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012344.

Title: CMA CGM/WHL PRX Slot Charter Agreement.

Parties: CMA CGM, S.A.; Wan Hai Lines (Singapore) Pte Ltd.; and Wan Hai Lines Ltd.

Filing Party: Draughn B. Arbona, Esq; CMA CGM (America) LLC; 5701 Lake Wright Drive; Norfolk, VA 23502.

Synopsis: The Agreement authorizes CMA to charter slots to Wan Hai in the trade between the U.S. West Coast and China.

Agreement No.: 012345.

Title: CMA CGM/HL Gulf Bridge Express Slot Charter Agreement.

Parties: CMA CGM, S.A.; Hapag-Lloyd AG.

Filing Party: Draughn B. Arbona, Esq; CMA CGM (America) LLC; 5701 Lake Wright Drive; Norfolk, VA 23502.

Synopsis: The Agreement authorizes CMA to charter space to Hapag-Lloyd in the trade between the U.S. Gulf Coast, on the one hand, and Mexico, Jamaica, Colombia and other Latin America and Caribbean countries, on the other hand.

By Order of the Federal Maritime Commission.
Dated: June 5, 2015.
Rachel E. Dickon,
Assistant Secretary.

[FR Doc. 2015-14204 Filed 6-9-15; 8:45 am]

BILLING CODE 6730-01-P